ENVIRONMENTAL PROTECTION AGENCY

40 CFR Part 52

[EPA-R05-OAR-2007-1043; FRL-8528-5]

Approval and Promulgation of Air Quality Implementation Plans; Michigan; PSD Regulations

AGENCY: Environmental Protection Agency (EPA).

ACTION: Proposed rule; reopening of public comment period.

SUMMARY: EPA is reopening the public comment period for a proposed rule published January 9, 2008 (73 FR 1570). On January 9, 2008, EPA proposed a conditional approval of a revision to Michigan's SIP submitted by the Michigan Department of Environmental Quality on December 21, 2006. The revisions were submitted to add the Prevention of Significant Deterioration (PSD) construction permitting program. This program affects major stationary sources in Michigan that are subject to or potentially subject to the PSD construction permit program. On January 25, 2008, EPA received a request from the Environmental Law and Policy Center, the Michigan Energy Alternatives, the Michigan Land Use Institute, the Natural Resources Defense Council and the Sierra Club, to extend the public comment period an additional 30 days from the closing date of February 8, 2008. EPA is granting this request by reopening the comment period for an additional 30 days after February 8, 2008.

DATES: The comment period is extended until March 10, 2008.

ADDRESSES: Submit comments, identified by Docket ID No. EPA-R05-OAR-2007-1043 to: Pamela Blakley, Chief, Air Permits Section, Air Programs Branch (AR-18J), U.S. Environmental Protection Agency, 77 West Jackson Boulevard, Chicago, Illinois 60604, (312) 886-4447, blakley.pamela@epa.gov. Additional instructions to comment can be found in the notice of proposed rulemaking published January 9, 2008 (73 FR 1570).

FOR FURTHER INFORMATION CONTACT: Laura Cossa, Environmental Engineer, Air Permits Section, Air Programs Branch (AR-18J), U.S. Environmental Protection Agency, Region 5, 77 West Jackson Boulevard, Chicago, Illinois 60604, (312) 886-0661, cossa.laura@epa.gov.

Dated: February 6, 2008.
Gary Gulezian,
Acting Regional Administrator, Region 5.

[FR Doc. E8-2704 Filed 2-12-08; 8:45 am]

BILLING CODE 6560-50-P